DEPARTMENT OF COMMERCE

International Trade Administration

[A-469-807]

Stainless Steel Wire Rod From Spain: Rescission of Antidumping Duty Administrative Review

AGENCY: Import Administration, International Trade Administration, Department of Commerce.

ACTION: Notice of Rescission of Antidumping Duty Administrative Review.

EFFECTIVE DATE: January 7, 2003.

FOR FURTHER INFORMATION CONTACT: Kevin Williams or Timothy Finn at (202) 482-2371 or (202) 482-0065, respectively; AD/CVD Enforcement, Office 4, Group II, Import Administration, International Trade Administration, U.S. Department of Commerce, 14th Street and Constitution Avenue, NW, Washington, DC 20230.

SUPPLEMENTARY INFORMATION:

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to the regulations at 19 CFR Part 351 (2002).

Background

On September 3, 2002, the Department published a notice of opportunity to request an administrative review of the antidumping duty order on stainless steel wire rod (SSWR) from Spain (67 FR 56267).

Pursuant to a request made by Carpenter Technology Corp. (the petitioner), the Department initiated an administrative review of the antidumping duty order on SSWR from Spain for the period September 1, 2001, through August 31, 2002 on October 18, 2002 (67 FR 65336)(October 24, 2002)). On December 6, 2002, the petitioner withdrew its request for the administrative review of SSWR from Spain.

Rescission of Review

Section 351.213(d)(1) of the Department's regulations provides that a party that requests an administrative review may withdraw the request within 90 days after the date of publication of the notice of initiation of the requested administrative review. The Department is rescinding the administrative review of the order on SSWR from Spain for the period September 1, 2001 through August 31, 2002 because the requesting party has withdrawn its request for this administrative review within the 90-day time limit and no other interested parties have requested a review of SSWR from Spain for this time period.

This notice is in accordance with section 777(i)(1) of the Act and 19 CFR 351.213(d)(4).

Dated: December 31, 2002.
Bernard T. Carreau,
Deputy Assistant Secretary for Import Administration.

[FR Doc. 03-290 Filed 1-6-03; 8:45 am]

BILLING CODE 3510-DS-S